DEPARTMENT OF TRANSPORTATION

Federal Highway Administration

[FHWA Docket No. FHWA-2013-0042]

Major Project Financial Plan Guidance

AGENCY: Federal Highway Administration (FHWA), DOT.

ACTION: Notice; Request for comments.

SUMMARY: This notice requests comments on draft Major Project Financial Plan Guidance outlining the procedures the FHWA will follow when reviewing and approving Financial Plans. The proposed Major Project Financial Plan Guidance incorporates changes required by the Moving Ahead for Progress in the 21st Century Act (MAP-21) and adopts a recommendation from a 2009 Government Accountability Office (GAO) report titled “Federal-Aid Highways: FHWA Has Improved Its Risk Management Approach, but Needs to Improve Its Oversight of Project Costs.”

DATES: Comments must be received on or before October 7, 2013.

ADDRESSES: To ensure that you do not duplicate your docket submissions, please submit all comments by only one of the following means:

• Federal eRulemaking Portal: Go to http://www.regulations.gov and follow the online instructions for submitting comments.

• Mail: Docket Management Facility, U.S. Department of Transportation, 1200 New Jersey Ave. SE., W12-140, Washington, DC 20590-0001.

• Hand Delivery: West Building Ground Floor, Room W12-140, 1200 New Jersey Ave. SE., between 9 a.m. and 5 p.m., Monday through Friday, except Federal holidays. The telephone number is (202) 366-9329.

• Instructions: You must include the agency name and docket number at the beginning of your comments. All comments received will be posted without change to http://www.regulations.gov, including any personal information provided.

FOR FURTHER INFORMATION CONTACT: For questions about this notice contact Mr. James Sinnette, Project Delivery Team Leader, FHWA Office of Innovative Program Delivery, (202) 366-1561, Federal Highway Administration, 1200 New Jersey Ave. SE., Washington, DC 20590-0001, or via email at james.sinnette@dot.gov. For legal questions, please contact Mr. Michael Harkins, Senior Attorney Advisor, FHWA Office of the Chief Counsel, (202) 366-4928, Federal Highway Administration, 1200 New Jersey Ave. SE., Washington, DC 20590-0001, or via email at michael.harkins@dot.gov. Business hours for the FHWA are from 8:00 a.m. to 4:30 p.m., e.t., Monday through Friday, except Federal holidays.

SUPPLEMENTARY INFORMATION:

Electronic Access and Filing

A copy of the proposed Major Project Financial Plan Guidance is available for download and public inspection under the docket number noted above at the Federal eRulemaking portal at: http://www.regulations.gov. You may submit or retrieve comments online through the Federal eRulemaking portal at: http://www.regulations.gov. The Web site is available 24 hours each day, 365 days each year. Electronic submission and retrieval help and guidelines are available under the help section of the Web site.

An electronic copy of this document may also be downloaded from Office of the Federal Register's home page at: http://www.archives.gov/federal_register and the Government Printing Office's Web page at: http://www.fdsys.gov. Late comments will be considered to the extent practicable.

Background

Major projects are defined in section 106(h) of title 23, United States Code (U.S.C.), as projects receiving Federal financial assistance with an estimated total cost of $500,000,000, or other projects as may be identified by the Secretary. Major projects are typically large, complex projects designed to address major highway needs and require the investment of significant financial resources. The preparation of the annual financial plan, as required by 23 U.S.C. 106(h)(3), ensures that the necessary financial resources are identified, available, and monitored throughout the life of the project.

The proposed Major Project Financial Plan Guidance replaces the existing January 2007 Major Project Financial Plan Guidance. Section 106 of title 23 U.S.C., as amended by section 1503 of MAP-21, allows Financial Plans to include a phasing plan when there are insufficient financial resources to complete the entire project. In addition, 23 U.S.C. 106 now requires recipients of Federal financial assistance to assess the appropriateness of a public-private partnership to deliver the project. In addition to these MAP-21 changes, the proposed Major Project Financial Plan Guidance also incorporates a recommendation included in a 2009 GAO report titled, “Federal-Aid Highway: FHWA Has Improved Its Risk Management Approach, but Needs to Improve Its Oversight of Project Costs” (GA-090-751). That report recommended that Financial Plans include the cost of financing the project.

Comments on the proposed Major Project Financial Plan Guidance are welcome from any interested party, including Federal, State, and local agencies; industry groups; and the general public. A copy of the proposed Major Project Financial Plan Guidance is available for download and public inspection under the docket number noted above at the Federal eRulemaking portal at: http://www.regulations.gov. The FHWA requests that commenters cite the page number of the Guidance for which each specific comment to the docket is concerned, to help make the FHWA's docket comment review process more efficient. The FHWA will consider all comments received during the comment period prior to finalizing the Major Project Financial Plan Guidance.

Issued on: August 20, 2013.
Victor M. Mendez,
FHWA Administrator.

[FR Doc. 2013-21738 Filed 9-5-13; 8:45 am]

BILLING CODE 4910-22-P